NATIONAL AERONAUTICS AND SPACE ADMINISTRATION

[Notice 05-091]

Agency Information Collection Activities; Proposals, Submissions, and Approvals

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Kathy Shaeffer, Mail Suite 6M70, National Aeronautics and Space Administration, Washington, DC 20546-0001.

FOR FURTHER INFORMATION CONTACT: Requests for additional information or copies of the information collection instrument(s) and instructions should be directed to Kathy Shaeffer, Acting NASA Reports Officer, NASA Headquarters, 300 E Street SW., Mail Suite 6M70, Washington, DC 20546, (202) 358-1230, kathleen.shaeffer-1@nasa.gov.

SUPPLEMENTARY INFORMATION:

I. Abstract

The information developed by the National Aviation Operations Monitoring Service will be used by NASA Aviation Safety Program Managers to evaluate the progress of their efforts to improve aviation over the next decade.

II. Method of Collection

NASA collects this information manually.

III. Data

Title: National Aviation Operations Monitoring Service.

OMB Number: 2700-0099.

Type of Review: Extension of a currently approved collection.

Affected Public: Individuals or households.

Estimated Number of Respondents: 8,000.

Estimated Time Per Response: Approximately ½ hour.

Estimated Total Annual Burden Hours: 5,455.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Dated: May 5, 2005.
Patricia L. Dunnington,
Chief Information Officer.

[FR Doc. 05-10191 Filed 5-20-05; 8:45 am]

BILLING CODE 7510-13-P